DEPARTMENT OF LABOR

Employment and Training Administration

[NAFTA-4895]

Northern Engraving Corporation, Galesville, WI; Notice of Termination of Investigation

Pursuant to Title V of the North American Free Trade Agreement Implementation Act (Pub. L. 103-182) concerning transitional adjustment assistance, hereinafter called NAFTA-TAA and in accordance with section 250(a), subchapter D, chapter 2, title II, of the Trade Act of 1974, as amended (19 U.S.C. 2331), an investigation was initiated on April 11, 2001, in response to a worker petition which filed by workers on behalf of workers at Northern Engraving Corporation, Galesville, Wisconsin.

During the initial petition verification, the Department learned that the petitioners were not employees of Northern Engraving Corporation. Consequently, the petition is invalid and the petition investigation has been terminated.

Signed in Washington, DC this 10th day of July, 2001.
Linda G. Poole,
Certifying Officer, Division of Trade Adjustment Assistance.

[FR Doc. 01-18627 Filed 7-25-01; 8:45 am]

BILLING CODE 4510-30-M